FEDERAL COMMUNICATIONS COMMISSION

47 CFR Part 101

[WT Docket No. 97-81; FCC 99-415]

Multiple Address Systems

AGENCY: Federal Communications Commission.

ACTION: Final rule; announcement of effective date.

SUMMARY: The Commission adopted new rules to maximize the use of spectrum designated for Multiple Address Systems (MAS) in the Fixed Microwave Services. One of the rules contained new and modified information collection requirements and was published in the Federal Register on April 3, 2000. This document announces the effective date.

DATES: Section 101.1327, published at 65 FR 17445 (April 3, 2000), became effective on September 1, 2000.

FOR FURTHER INFORMATION CONTACT: Diana Cohen or Jennifer Mock, Broadband Division, Wireless Telecommunications Bureau at (202) 418-2487.

SUPPLEMENTARY INFORMATION: On September 1, 2000, the Office of Management and Budget (OMB) approved the information collection requirements contained in § 101.1327, pursuant to OMB Control No. 3060-0947. Accordingly, the information collection requirements contained in this rule became effective on September 1, 2000.

List of Subjects in 47 CFR Part 101

Communications equipment, Radio, Reporting and recordkeeping requirements.

Federal Communications Commission.
William F. Caton,
Deputy Secretary.

[FR Doc. 04-16737 Filed 7-21-04; 8:45 am]

BILLING CODE 6712-01-P